PENSION BENEFIT GUARANTY CORPORATION

Solicitation of Nominations for the Pension Benefit Guaranty Corporation Participant and Plan Sponsor Advocate

AGENCY: Pension Benefit Guaranty Corporation.

ACTION: Notice.

SUMMARY: The Pension Benefit Guaranty Corporation (PBGC) Advisory Committee is soliciting nominations for the PBGC Participant and Plan Sponsor Advocate position.

DATES: Nominations must be received on or before August 28, 2024.

ADDRESSES: Nominations must be submitted electronically to PBGCRecruitment@pbgc.gov as email attachments in Word or pdf format.

SUPPLEMENTARY INFORMATION: The Pension Benefit Guaranty Corporation (PBGC or the Corporation) administers the pension plan termination insurance program under title IV of the Employee Retirement Income Security Act of 1974 (ERISA). Section 4004 of ERISA provides for the Participant and Plan Sponsor Advocate (the Advocate) position. In general, the Advocate and staff in the Office of the Advocate help participants and plan sponsors resolve disputes with the PBGC. The Office of the Advocate works directly with participants in defined benefit plans to ensure that they receive benefits that they are entitled to from PBGC. The Office of the Advocate also assists plan sponsors in resolving disputes and other issues with PBGC. The Advocate works independently of the PBGC Departments and reports directly to the PBGC Board of Directors. They report to Congress annually on the activities of the Office of the Participant and Plan Sponsor Advocate; and provide oversight and supervision of the Office of the Advocate staff.

The Participant and Plan Sponsor Advocate's prescribed duties under section 4004 of ERISA include:

(1) act as a liaison between the Corporation, sponsors of defined benefit pension plans insured by the Corporation, and participants in pension plans trusteed by the Corporation;

(2) advocate for the full attainment of the rights of participants in plans trusteed by the Corporation;

(3) assist pension plan sponsors and participants in resolving disputes with the Corporation;

(4) identify areas in which participants and plan sponsors have persistent problems in dealings with the Corporation;

(5) to the extent possible, propose changes in the administrative practices of the corporation to mitigate problems;

(6) identify potential legislative changes which may be appropriate to mitigate problems; and

(7) refer instances of fraud, waste, and abuse, and violations of law to the Office of the Inspector General of the Corporation.

Due to an impending vacancy, the Advisory Committee is seeking nominations for the Participant and Plan Sponsor Advocate position. Section 4004(a) of ERISA requires the PBGC Board of Directors to select a Participant and Plan Sponsor Advocate from the candidates nominated by the Advisory Committee.

If you or your organization would like to nominate one or more people for the Participant and Plan Sponsor Advocate position, you may submit nominations to PBGC. Nominations may be in the form of a letter, resolution, or petition, signed by the person making the nomination, and must include the resume of the individual being nominated. Resumes should include positions held, experience and salary history of the nominee. Additional supporting letters of nomination are encouraged. Please do not include any information that should not be publicly disclosed. This is a supervisory position. The salary range for this position is $191,900 to $221,900, and includes a comprehensive benefits package. This position is located in Washington, DC.

Nominations, including supporting letters, should:

• state the person's qualifications to serve as the Participant and Plan Sponsor Advocate, to include positions held, and experience relevant to the Advocate position;

• include the nominee's full name, work affiliation, mailing address, phone number, and email address;

• include the nominator's full name, work affiliation, mailing address, phone number, and email address; and

• include the nominator's signature.

PBGC does not discriminate in employment on the basis of race, color, religion, sex (including pregnancy and gender identity), national origin, political affiliation, sexual orientation, marital status, disability, genetic information, age, membership in an employee organization, retaliation, parental status, military service or other non-merit factor.

Issued in Washington, DC.
Karen L. Morris,
General Counsel, Pension Benefit Guaranty Corporation.

[FR Doc. 2024-16545 Filed 7-26-24; 8:45 am]

BILLING CODE 7709-02-P